DEPARTMENT OF AGRICULTURE

Farm Service Agency

Information Collection Request; Generic Clearance for the Collection of Qualitative Customer Feedback on the Farm Service Agency Service Delivery

AGENCY: Farm Service Agency, USDA.

ACTION: Notice; request for comments.

SUMMARY: In accordance with the Paperwork Reduction Act of 1995, the Farm Service Agency (FSA) is requesting comments from all interested individuals and organizations on an extension with a revision of a currently approved information collection associated with the Generic Clearance for the Collection of Qualitative Customer Feedback on FSA Service Delivery. This option is a fast track for approval to streamline the timing to implement certain types of surveys and related collection of information. FSA uses the approval to cover the instruments of collection (such as a survey, a window pop-up survey, a focus group, or a comment card), which are designed to get customer feedback on FSA service delivery for various programs. This request for approval broadly addresses FSA's need for information about what our customers think of our services so that we can improve service delivery; specific information collection activities will be incorporated into the approval as the need for the information is identified. For example, when we implement a new program and provide information about the services for the program on our Web site, we may provide a voluntary customer service questionnaire about how well the program is working for our customers, specifically within the area of customer service. FSA is requesting to increase the number of respondents in the fast track approval due to an anticipated increase in the number of customer respondents responding to customer service surveys that will be sent to a broader scope and greater number of FSA customers.

DATES: We will consider comments that we receive by June 5, 2017.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: Mary Ann Ball, USDA, Farm Service Agency, Room 3754-S, 1400 Independence Ave SW., Washington, DC 20250-0572.

You may also send comments to the Desk Officer for Agriculture, Office of Information and Regulatory Affairs, Office of Management and Budget, Washington, DC 20503.

Copies of the information collection instruments may be requested by contacting Mary Ann Ball at the above address.

FOR FURTHER INFORMATION CONTACT: Mary Ann Ball, (202) 720-4283.

SUPPLEMENTARY INFORMATION: Title: Generic Clearance for the Collection of Qualitative Customer Feedback on Farm Service Agency Service Delivery.

OMB Control Number: 0560-0286.

Type of Request: Extension with a revision.

Abstract: FSA program staff have created several feedback instruments (customer surveys) and submitted them to the FSA information collection coordinator for approval under the current approved information collection of 0560-0286, Generic Clearance for the Collection of Qualitative Customer Feedback on Farm Service Agency Service Delivery. FSA program staff continue to use the fast track approval to submit a new customer instruments to the FSA information collection coordinator for approval, which takes less time rather than going through a regular Paperwork Reduction Act process. As a result, program staff are able to quickly implement certain types of surveys and related collection of information using OMB control number of 0560-0286. For example, when we implement a new program and provide information about the programs on our Web site, FSA may provide a voluntary customer service questionnaire about how well the program is working for our customers, specifically within the area of customer service. The information collection provides a means to gather qualitative customer and stakeholder feedback in an efficient, timely manner that is consistent with FSA's commitment to improving service delivery. By qualitative feedback, we mean information, generally from customers, that provides useful insights on perceptions and opinions based on experiences with FSA service delivery. Such information does not include statistical surveys that yield quantitative results that can be generalized to the population. The qualitative feedback will:

• Provide insights into customer or stakeholder perceptions, experiences, and expectations,

• Provide an early warning of issues with service, and

• Focus attention on areas where communication, training, or changes in operations might improve delivery of products or services.

The collection will allow for ongoing, collaborative, and actionable communication between FSA and its customers and stakeholders. It will also allow feedback to contribute directly to the improvement of program management.

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on FSA's services will be unavailable.

FSA will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• The collections are targeted to the solicitation of opinions from respondents who have experience with the program or may have experience with the program in the near future;

• Personally identifiable information (PII) is collected only to the extent necessary and is not retained;

• Information gathered will be used only internally for general service improvement and program management purposes and is not intended for release outside of FSA;

• Information gathered will not be used for the purpose of substantially informing influential policy decisions; and

• Information gathered will yield qualitative information; the collections will not be designed or expected to yield statistically reliable results or used as though the results are generalizable to the population of study.

As a general matter, information collections will not result in any new system of records containing privacy information and will not ask questions of a sensitive nature, such as religious beliefs, sexual behavior and attitudes, and other matters that are commonly considered private.

The estimated total annual burden hours are being amended due to an increase in the number of FSA customers that will respond to the customer survey, which therefore increased the information collection requirements. Annual responses have increased by 590,000, with a resulting increase of 295,000 burden hours in the request.

For the following estimated total annual burden on respondents, the formula used to calculate the total burden hours is the estimated average time per response multiplied by the estimated total annual number of responses.

Estimate of Average Time to Respond: Public reporting burden for collecting information under this notice is estimated to average 30 minutes (0.50 hours) per response, including the time for reviewing instructions, searching existing data sources, gathering and maintaining the data needed, and completing and reviewing the collection of information.

Respondents: Individuals and Households; Businesses; Organizations; and State, Local, or Tribal government.

Estimated Number of Respondents: 600,000.

Estimated Annual Number of Responses per Respondent: 1.

Estimated Total Annual Responses: 600,000.

Estimated Average Time per Response: 30 minutes (0.50 hours).

Estimated Total Annual Burden Hours on Respondents: 300,000 hours.

We are requesting comments on all aspects of this information collection to help us to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Chris P. Beyerhelm,
Acting Administrator, Farm Service Agency.

[FR Doc. 2017-06594 Filed 4-3-17; 8:45 am]

BILLING CODE 3410-05-P